DEPARTMENT OF ENERGY

Federal Energy Regulatory Commission

Combined Notice of Filings #1

Take notice that the Commission received the following electric rate filings:

Docket Numbers: ER22-1060-000.

Applicants: ISO New England Inc.

Description: Notice of Withdrawal of February 15, 2022 Petition for Temporary Tariff Waiver, Shortened Comment Period, and Expedited Action of ISO-New England, Inc.

Filed Date: 3/9/22.

Accession Number: 20220309-5196.

Comment Date: 5 p.m. ET 3/30/22.

Docket Numbers: ER22-1236-000.

Applicants: Louisville Gas and Electric Company.

Description: § 205(d) Rate Filing: EKPC PENN Construction In Aid Of Construction Agreement to be effective 5/10/2022.

Filed Date: 3/10/22.

Accession Number: 20220310-5031.

Comment Date: 5 p.m. ET 3/31/22

Docket Numbers: ER22-1237-000.

Applicants: Louisville Gas and Electric Company.

Description: § 205(d) Rate Filing: KU Concurrence EKPC Rice CIAC RS No. 523 to be effective 5/10/2022.

Filed Date: 3/10/22.

Accession Number: 20220310-5032.

Comment Date: 5 p.m. ET 3/31/22.

Docket Numbers: ER22-1238-000.

Applicants: Kentucky Utilities Company.

Description: § 205(d) Rate Filing: KU Concurrence EKPC Penn CIAC RS No. 522 to be effective 5/10/2022.

Filed Date: 3/10/22.

Accession Number: 20220310-5033.

Comment Date: 5 p.m. ET 3/31/22.

Docket Numbers: ER22-1239-000.

Applicants: Louisville Gas and Electric Company.

Description: § 205(d) Rate Filing: EKPC RICE Contribution In Aid Of Construction Agreement to be effective 5/10/2022.

Filed Date: 3/10/22.

Accession Number: 20220310-5037.

Comment Date: 5 p.m. ET 3/31/22.

Docket Numbers: ER22-1241-000.

Applicants: REV Energy Marketing, LLC.

Description: Baseline eTariff Filing: Application for Market-Based Rate Authorization.

Filed Date: 3/10/22.

Accession Number: 20220310-5051.

Comment Date: 5 p.m. ET 3/31/22.

Docket Numbers: ER22-1242-000.

Applicants: Nevada Power Company.

Description: § 205(d) Rate Filing: Schedule 2 Tariff Revision to be effective 3/11/2022.

Filed Date: 3/10/22.

Accession Number: 20220310-5055.

Comment Date: 5 p.m. ET 3/31/22.

Docket Numbers: ER22-1243-000.

Applicants: Avista Corporation.

Description: Compliance filing: Avista Corp MBR Tariff No 9 Compliance Filing for EIM Participation to be effective 3/11/2022.

Filed Date: 3/10/22.

Accession Number: 20220310-5068.

Comment Date: 5 p.m. ET 3/31/22.

Docket Numbers: ER22-1245-000.

Applicants: Alabama Power Company, Georgia Power Company, Mississippi Power Company.

Description: § 205(d) Rate Filing: Alabama Power Company submits tariff filing per 35.13(a)(2)(iii: Oglethorpe (Effingham) IA Amendment Filing to be effective 2/28/2022.

Filed Date: 3/10/22.

Accession Number: 20220310-5085.

Comment Date: 5 p.m. ET 3/31/22.

Docket Numbers: ER22-1246-000.

Applicants: California Independent System Operator Corporation.

Description: § 205(d) Rate Filing: 2022-03-10 Intertie Constraint Penalty Price Tariff Amendment to be effective 12/31/9998.

Filed Date: 3/10/22.

Accession Number: 20220310-5089.

Comment Date: 5 p.m. ET 3/31/22.

Docket Numbers: ER22-1248-000.

Applicants: PJM Interconnection, L.L.C.

Description: § 205(d) Rate Filing: Original ISA and ICSA, Service Agreement Nos. 6372 and 6373; Queue No. AC1-189 to be effective 2/10/2022.

Filed Date: 3/10/22.

Accession Number: 20220310-5098.

Comment Date: 5 p.m. ET 3/31/22.

Docket Numbers: ER22-1249-000.

Applicants: Midcontinent Independent System Operator, Inc., American Transmission Company LLC.

Description: § 205(d) Rate Filing: Midcontinent Independent System Operator, Inc. submits tariff filing per 35.13(a)(2)(iii: 2022-03-10_SA 2767 ATC-Manitowoc Public Utilities 2nd Rev CFA to be effective 5/10/2022.

Filed Date: 3/10/22.

Accession Number: 20220310-5115.

Comment Date: 5 p.m. ET 3/31/22.

Docket Numbers: ER22-1250-000.

Applicants: Arrow Canyon Solar, LLC.

Description: Baseline eTariff Filing: Initial Market-Based Rate Petition of Arrow Canyon Solar to be effective 4/30/2022.

Filed Date: 3/10/22.

Accession Number: 20220310-5131.

Comment Date: 5 p.m. ET 3/31/22.

Docket Numbers: ER22-1251-000.

Applicants: Tucson Electric Power Company.

Description: Tariff Amendment: Cancellation of OATT Service Agreements 490 and 491 to be effective 1/1/2022.

Filed Date: 3/10/22.

Accession Number: 20220310-5138.

Comment Date: 5 p.m. ET 3/31/22.

The filings are accessible in the Commission's eLibrary system (https://elibrary.ferc.gov/idmws/search/fercgensearch.asp) by querying the docket number. Any person desiring to intervene or protest in any of the above proceedings must file in accordance with Rules 211 and 214 of the Commission's Regulations (18 CFR 385.211 and 385.214) on or before 5:00 p.m. Eastern time on the specified comment date. Protests may be considered, but intervention is necessary to become a party to the proceeding. eFiling is encouraged. More detailed information relating to filing requirements, interventions, protests, service, and qualifying facilities filings can be found at: http://www.ferc.gov/docs-filing/efiling/filing-req.pdf. For other information, call (866) 208-3676 (toll free). For TTY, call (202) 502-8659.

Dated: March 10, 2022.
Debbie-Anne A. Reese,
Deputy Secretary.

[FR Doc. 2022-05583 Filed 3-16-22; 8:45 am]

BILLING CODE 6717-01-P